DEPARTMENT OF ENERGY

Federal Energy Regulatory Commission

[Project No. 14276-001; Docket No. AD13-9-000]

Free Flow Power Project 92, LLC; Notice of Intent To File License Application; Filing of Pre-Application Document (PAD), and Request To Test a Two-Year Licensing Process

a. Type of Filing: Notice of Intent to File License Application for an Original License and a request to be selected as a pilot project to test a two-year licensing process.

b. Project No.: 14276-001.

c. Dated Filed: May 5, 2014.

d. Submitted By: Free Flow Power Project 92, LLC (FFP).

e. Name of Project: Kentucky River Lock & Dam No. 11 Hydroelectric Project.

f. Location: On the Kentucky River in Estill and Madison Counties, Kentucky. No federal land would be occupied by project features or located within the project boundary.

g. Filed Pursuant to: 18 CFR Part 5 of the Commission's Regulations and Hydropower Regulatory Efficiency Act of 2013.

h. Potential Applicant Contact: Dan Lissner, Free Flow Power Corporation, 239 Causeway Street, Suite 300, Boston, MA 02114; (978) 252-7111; email—dlissner@free-flow-power.com.

i. FERC Contact: Sarah Salazar at (202) 502-6863, or email at sarah.salazar@ferc.gov.

j. FFP has filed with the Commission: (1) A notice of intent (NOI) to file an application for an original license; (2) a Pre-Application Document (PAD) with a proposed process plan and schedule; (3) a list of environmental issues associated with the project proposal; (4) proposed studies to acquire information to include in a license application; and (5) a request to be selected as a pilot project to test a two-year licensing process, pursuant to the requirements identified in the Commission's January 6, 2014 notice soliciting pilot projects.

k. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

Register online at http://www.ferc.gov/docs-filing/esubscription.asp to be notified via email of new filing and issuances related to this or other pending projects. For assistance, contact FERC Online Support.

This notice is being distributed to both the applicant's distribution list and the Commission's official mailing list. If you wish to be added to or removed from the Commission's official mailing list, please send your request by email to efiling@ferc.gov or by mail to: Kimberly D. Bose, Secretary, Federal Energy Regulatory Commission, 888 First Street NE., Room 1A, Washington, DC 20426. All written or emailed requests must specify your wish to be removed from or added to the mailing list and must clearly identify the following on the first page: Lock & Dam No. 11 Hydroelectric Project No. 14276-001.

l. The proposed project would use the Kentucky River Authority's (KRA) existing Kentucky River Lock & Dam No. 11, and be operated as a run-of-river facility using existing flows while maintaining current water surface elevations in the upstream pool. The proposed project would include: (1) The existing 579-acre reservoir, with a normal pool elevation of 585.60 feet North American Vertical Datum of 1988; (2) a new 3.5-foot-high adjustable crest gate attached to the top of the existing 208-foot-long, 35-foot-high fixed crest dam; (3) a new 275-foot-long, 75-foot-wide reinforced concrete intake channel equipped with 3-inch bar spacing trashracks; (4) a new 140-foot-long, 64.5-foot-wide powerhouse built within the existing lock structure, with two horizontal Kaplan turbine generator units each rated at 2.5 megawatts (MW) for a total installed capacity of 5 MW; (5) a new 190-foot-long, 78-foot-wide tailrace; (6) a new substation; (7) a new, approximately 4.5-mile-long, 69-kilovolt transmission line extending from the powerhouse to an existing substation located near Waco, Kentucky; and (8) appurtenant facilities. The proposed project would generate about 18.5 gigawatt-hours annually, which would be sold to a local utility.

m. With this notice, we are soliciting comments on the use of the two-year license process for this project. We are also soliciting comments on the PAD, the list of environmental issues, the proposed studies, and study requests. Any request for additional studies or modifications to the proposed studies must conform to the requirements in 18 CFR 5.9(b) of the Commission's regulations.

All comments and study requests should be sent to the address above in paragraph h and must be filed with the Commission. The Commission strongly encourages electronic filing. Please file all documents using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov. In lieu of electronic filing, please send a paper copy to: Secretary, Federal Energy Regulatory Commission, 888 First Street NE., Washington, DC 20426.

All filings with the Commission must include on the first page, the project name (Kentucky River Lock & Dam No. 11 Hydroelectric Project) and number (P-14276-001), as well as docket number AD13-9-000, and bear the appropriate heading: “Comments on Pre-Application Document,” “Comments on the Use of the Two-Year Process,” “Comments on List of Potential Environmental Effects for Environmental Analysis,” or “Comments on Proposed Study Plan.” Comments and study requests must be filed by July 3, 2014.

n. Commission staff will hold a technical meeting via teleconference to discuss the identified issues and study needs, as well as discuss the process plan and schedule. The technical meeting will focus on the information gaps that need to be filled to ensure that sufficient information exists for the Commission to make a determination on whether the proposed project meets the criteria for a pilot project and for processing a license application once it is filed with the Commission. All interested individuals, organizations, and agencies are invited to participate in the technical meeting. A summary of the meeting will be placed in the public records of the project. The time of the meeting will be Thursday, June 19, 2014, at 1:30 p.m. Anyone wanting to participate in the meeting should contact Sarah Salazar, using the contact information provided above in paragraph i, for teleconference call-in instructions by June 13, 2014.

Dated: June 3, 2014.
Kimberly D. Bose,
Secretary.

[FR Doc. 2014-13354 Filed 6-6-14; 8:45 am]

BILLING CODE 6717-01-P